Proclamation 7402 of January 19, 2001

Establishment of the Governors Island National Monument

By the President of the United States of America

A Proclamation

On the north tip of Governors Island, between the confluence of the Hudson and Eastern Rivers, Governors Island National Monument served as an outpost to protect New York City from sea attack. The monument, part of a larger 1985 National Historic Landmark District designation, contains two important historical objects, Castle William and Fort Jay. Between 1806 and 1811, these fortifications were constructed as part of the First and Second American Systems of Coastal Fortification. Castle William and Fort Jay represent two of the finest types of defensive structures in use from the Renaissance to the American Civil War. The monument also played important roles in the War of 1812, the American Civil War, and World Wars I and II.

The fortifications in the monument were built on the most strategic defensive positions on the island. Fort Jay, constructed between 1806 and 1809, is on the highest point of the island from which its glacis originally sloped down to the waterfront on all sides. Castle William, constructed between 1807 and 1811, occupies a rocky promontory as close as possible to the harbor channels and served as the most important strategic defensive point in the entrance to the New York Harbor. The monument also includes a number of associated historical buildings constructed as part of the garrison post in the early part of the 19th century.

Governors Island has been managed by the U.S. Army and the U.S. Coast Guard over the past 200 years. With the site no longer required for military or Coast Guard purposes, it provides an excellent opportunity for the public to observe and understand the harbor history, its defense, and its ecology.

Section 2 of the Act of June 8, 1906 (34 Stat. 225, 16 U.S.C. 431), authorizes the President, in his discretion, to declare by public proclamation historic landmarks, historic and prehistoric structures, and other objects of historic or scientific interest that are situated upon the lands owned or controlled by the Government of the United States to be national monuments, and to reserve as a part thereof parcels of land, the limits of which in all cases shall be confined to the smallest area compatible with the proper care and management of the objects to be protected.

WHEREAS it appears that it would be in the public interest to reserve such lands as the Governors Island National Monument:

NOW, THEREFORE, I, WILLIAM J. CLINTON, President of the United States of America, by the authority vested in me by section 2 of the Act of June 8, 1906 (34 Stat. 225, 16 U.S.C. 431), do proclaim that there are hereby set apart and reserved as the Governors Island National Monument for the purpose of protecting the objects identified above, all lands and interests in lands owned or controlled by the United States within the boundaries of the area described on the map entitled “Governors Islands National Monument” attached to and forming a part of this proclamation. The Federal land and interests in land reserved consist of approximately 20 acres, which is the smallest area compatible with the proper care and management of the objects to be protected.

Subject to existing law, including Public Law No. 105-33, Title IX, section 9101(a), 111 Stat. 670 (Aug. 5, 1997), all Federal lands and interests in lands within the boundaries of this monument are hereby appropriated and withdrawn from all forms of entry, location, selection, sale, or leasing or other disposition under the public land laws, including but not limited to withdrawal from location, entry, and patent under the mining laws, and from disposition under all laws relating to mineral and geothermal leasing.

The Secretary of the Interior (“Secretary”), acting through the National Park Service, shall manage the monument in consultation with the Administrator of General Services, consistent with the purposes and provisions of this proclamation. For the purpose of preserving, restoring, and enhancing the public visitation and appreciation of the monument, the Secretary, acting through the National Park Service, shall prepare, in consultation with the Administrator of General Services, a management plan for the monument within 3 years of this date. Further, to the extent authorized by law, the Secretary, acting through the National Park Service, shall promulgate, in consultation with the Administrator of General Services, regulations for the proper care and management of the objects identified above.

The establishment of this monument is subject to valid existing rights.

Nothing in this proclamation shall be deemed to revoke any existing withdrawal, reservation, or appropriation; however, the national monument shall be the dominant reservation.

Warning is hereby given to all unauthorized persons not to appropriate, injure, destroy, or remove any feature of this monument and not to locate or settle upon any of the lands thereof.

IN WITNESS WHEREOF, I have hereunto set my hand this nineteenth day of January, in the year of our Lord two thousand one, and of the Independence of the United States of America the two hundred and twenty-fifth.

wj

Billing code 3195-01-P

[FR Doc. 01-2399

Filed 1-24-01; 8:45 am]

Billing code 3195-01-C